DEPARTMENT OF HEALTH AND HUMAN SERVICES

Office of Inspector General

Program Exclusions: February 2005

AGENCY: Office of Inspector General, HHS.

ACTION: Notice of program exclusions.

During the month of February 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
ABERNATHY, EVELYN | 3/20/2005
HERTFORD, NC
ADKINS, JO ANN | 3/20/2005
FRESNO, CA
AYRAPETYAN, TIGRAN | 3/20/2005
TAFT, CA
BAKER, CHARLES | 3/20/2005
DURHAM, NC
BAKER, JON | 12/30/2004
SCOTTSDALE, AZ
BARAM, GREGORY | 3/20/2005
STUDIO CITY, CA
BURGER, BARBARA | 3/20/2005
MARYLAND HEIGHTS, MO
CAPERS, KIZZY | 3/20/2005
NEWTON GROVE, NC
COOKE, LENOTRA | 3/20/2005
LOS ANGELES, CA
CRUZ, JULIA | 3/20/2005
SANTA ROSA, CA
CUNNINGHAM, DEATRYCE | 3/20/2005
SAN PABLO, CA
DEO, VASU | 3/20/2005
TERMINAL ISLANDS, CA
DIPRIMA, FRANK | 3/20/2005
DILLSBURG, PA
GARCIA, GUSTAVO | 3/20/2005
SONOMA, CA
GERDES, DEBRA | 3/20/2005
NORTH PEKIN, IL
GORE, ANGELA | 3/20/2005
NEW ORLEANS, LA
GUERRERO, GAUDENCIO | 3/20/2005
SONOMA, CA
HAMBRIC, EVERETTE | 3/20/2005
MORGANTOWN, WV
HENSLEY, TIMOTHY | 3/20/2005
KNOXVILLE, TN
HERNANDEZ, BENITA | 3/20/2005
LOS ANGELES, CA
HINTON, PAULA | 3/20/2005
SHREVEPORT, LA
HUTCHINSON, TRENT | 3/20/2005
SAN FRANCISCO, CA
JOHN, NICOLE | 3/20/2005
LONG ISLAND CITY, NY
JOHNSON, GADSON | 3/20/2005
LOS ANGELES, CA
JONES, SILVER | 3/20/2005
DURHAM, NC
KAMRAVA, SID | 3/20/2005
ENCINO, CA
KASSABIAN, EMANUEL | 3/20/2005
ANAHEIM, CA
KEEN, KEITH | 3/20/2005
WILMINGTON, NC
KETENDJIAN, AIKAZ | 3/20/2005
SACRAMENTO, CA
LANGLEY, KAREN | 3/20/2005
FOUR OAKS, NC
MAJCHEN, ELENA | 3/20/2005
FRESNO, CA
MALVEAUX, ANNA | 3/20/2005
FT WORTH, TX
MARTINEZ, ELIZABETH | 3/20/2005
DENVER, CO
MAZOR, ANDREW | 3/20/2005
GRANADA HILLS, CA
MCBRIDE, HEIDI | 3/20/2005
HEYBURN, ID
MCCOY, JIMMY | 3/20/2005
FRESNO, CA
MOODY, CHERRY | 3/20/2005
COLEMAN, FL
MUNN, VINCENT | 3/20/2005
LOMPOC, CA
MUSOYAN, SARKIS | 3/20/2005
BURBANK, CA
NAVARRO, PATRICIA | 3/20/2005
CYPRUS, CA
OGANESYAN, VARDAN | 3/20/2005
LONG BEACH, CA
PAL, MOHAMMAD | 3/20/2005
ASTORIA, NY
PARSON, DIANNE | 3/20/2005
MORVEN, NC
RODRIGUEZ, RICARDO | 3/20/2005
DOWNEY, CA
RUPA, LUZ | 3/20/2005
DOWNEY, CA
SANDOVAL, JOSE | 3/20/2005
DOWNEY, CA
SCHLUTER, TERRY | 3/20/2005
ST PETERSBURG, FL
SCHWARZ, MICHAEL | 3/20/2005
MARICOPA, AZ
SEPUT, EDGARDO | 3/20/2005
LA MIRADA, CA
SILVESTRE-MEJIA, LUIS | 3/20/2005
JACKSON HEIGHTS, NY
SMITH, VICKY | 3/20/2005
COLUMBUS, OH
SONCO, FREDDY | 3/20/2005
DOWNEY, CA
STEELE, SAMUEL | 3/20/2005
LAS VEGAS, NV
TUREK, RAYMOND | 3/20/2005
ATLANTA, GA
URIN, ALEXANDER | 3/20/2005
LOS ANGELES, CA
VILLALVA, VALFRED | 3/20/2005
SONOMA, CA
VILLAMOR, MANUEL | 3/20/2005
MIAMI, FL
WATTS, JO ANN | 3/20/2005
TALLAHASSEE, FL
WILDIN, HEATHER | 3/20/2005
GREAT FALLS, MT
WILLIAMS, DEWAYNE | 3/20/2005
SEATTLE, WA
FELONY CONVICTION FOR HEALTH CARE FRAUD
BAY, DAVID | 3/20/2005
SPRINGFIELD, MO
FAGIN, KEVIN | 3/20/2005
BEREA, KY
FINK, DAVID | 3/20/2005
METUCHEN, NJ
HOOKS, PETRINA | 3/20/2005
DELAND, FL
MAYES, JOSEPH | 3/20/2005
NORTH EAST, PA
MURRAY, TOMMIE | 3/20/2005
STONEWALL, MS
NEWSTADT, RAYMOND | 3/20/2005
MONTGOMERY, PA
NGUYEN, DAVID | 3/20/2005
CLOVIS, CA
PAULEY, SUSAN | 3/20/2005
HAMPTON, VA
PELAEZ, JORGE | 3/20/2005
ROSEMEAD, CA
ROBINSON, JENNIFER | 3/20/2005
JACKSON, MS
ROSENFARB, ANDREW | 3/20/2005
WESTFIELD, NJ
SERRANO, VERONICA | 3/20/2005
CHULA VISTA, CA
TRIVETT, ELISA | 3/20/2005
DUNEDIN, FL
ZEIGLER, TAMARA | 3/20/2005
CORONA, CA
FELONY CONTROL SUBSTANCE CONVICTION
BENTZ, WILLIAM | 3/20/2005
NEOSHO, MO
BOUCHARD, TAMARA | 3/20/2005
MENTOR, OH
CAMPBELL, FRANCES | 3/20/2005
BROKEN ARROW, OK
CAMPOSTRINI, KATHERINE | 3/20/2005
OROVILLE, CA
DEDRICK, TAMMY | 3/20/2005
CORONA, CA
FAHTI, CATHERINE | 3/20/2005
COMPTON, CA
FERRO, PAULA | 3/20/2005
PHILADELPHIA, PA
HAKANSON, MARK | 3/20/2005
ARCADIA, CA
HELMETZ, PAMELA | 3/20/2005
EUCLID, OH
HUMPHRIES, CAROLYN | 3/20/2005
DAWSON, TX
KAPLAN-CALLAHAN, ROBYN | 3/20/2005
WHITMAN, MA
KELLEY, SHERMA | 3/20/2005
EAST PRAIRIE, MO
MCKININ, MICHAEL | 3/20/2005
CHICO, CA
SEGURA, IVAN | 3/20/2005
WASECA, MN
SMITH, MICHAEL | 3/20/2005
ORLANDO, FL
STUTZMAN, LAURIE | 3/20/2005
CHINO HILLS, CA
PATIENT ABUSE/NEGLECT CONVICTIONS
ATKINS, JAY | 3/20/2005
MARANA, AZ
CARROLL, STEVE | 3/20/2005
WASHINGTON, UT
CELEDIO, CARLO | 3/20/2005
DALY CITY, CA
COE, MARLO | 3/20/2005
BELLINGHAM, WA
DAVIS, KATRICE | 3/20/2005
ST MARTINVILLE, LA
DECKER, SHAWN | 3/20/2005
MUSKOGEE, OK
GINTHER, DEANNA | 3/20/2005
DENVER, CO
GUY, JUDITH | 3/20/2005
LUTHER, OK
HOWARD, CHARLES | 3/20/2005
SPRINGFIELD, KY
JACKSON, CLIFFORD | 3/20/2005
LOS ANGELES, CA
MARJANOVIC, TANYA | 3/20/2005
BEAVERTON, OR
PATTON, BRANDY | 3/20/2005
SUSANVILLE, CA
PINKSTON, AMANDA | 3/20/2005
TULSA, OK
REICH, LAURENCE | 3/20/2005
BEVERLY HILLS, CA
RISER, JARED | 3/20/2005
ROOSEVELT, UT
SNOW-WORKMAN, JOY | 3/20/2005
MCMINNVILLE, OR
THOMPSON, LYNN | 3/20/2005
BUFFALO, NY
USATE, HENRY | 3/20/2005
SAN JOSE, CA
WILL, NANCY | 3/20/2005
POTEAU, OK
CONVICTION FOR HEALTH CARE FRAUD
KILMER, GERALDINE | 3/20/2005
SILVER GROVE, KY
LEWIS, KARMON | 3/20/2005
GULFPORT, MS
PAYNE, CRYSTAL | 3/20/2005
CLEVELAND, MS
LICENSE REVOCATION/SUSPENSION/SURRENDERED
ADAMS, JULIA | 3/20/2005
CHICAGO, IL
AHLUWALIA, JASBIR | 3/20/2005
RENTON, WA
ALBERTS, WAYNE | 3/20/2005
VIENNA, VA
AMEND, CATHY | 3/20/2005
LATONIA, KY
ANDERSON, ANGELINA | 3/20/2005
DALY CITY, CA
ANDERSON, C | 3/20/2005
DENVER, CO
ANDERSON, DEBORAH | 3/20/2005
ALBANY, OR
ANDERSON, NANCY | 3/20/2005
NASHVILLE, TN
ATWELL, DEBRA | 3/20/2005
RENO, NV
BALDWIN, GRANT | 3/20/2005
FRESNO, CA
BAUGHMAN, PAMELA | 3/20/2005
HUNKER, PA
BAZE, ANGELA | 3/20/2005
NORMAN, OK
BECK, DENNIS | 3/20/2005
SPENCER, IA
BENNETT, LINDA | 3/20/2005
SMYRNA, TN
BERETTA, TIFFANY | 3/20/2005
MONTROSE, CO
BERMAN, BRUCE | 3/20/2005
FARMINGDALE, NY
BITTINGER, CATHI JO | 3/20/2005
SNOW SHOE, PA
BODENCAK, JANET | 3/20/2005
HEDGESVILLE, WV
BOSWEIN, DANIEL | 3/20/2005
YOUNGTOWN, AZ
BOWERS, HEATHER | 3/20/2005
ST PETERSBURG, FL
BRAY, KIRSTEN | 3/20/2005
ALEXANDRIA, VA
BROOM, KAREN | 3/20/2005
UNIVERSAL CITY, TX
BUJOR, TITUS | 3/20/2005
PARADISE, CA
CABRERA, DEBORAH | 3/20/2005
VIRGINIA BEACH, VA
CETINA, TANYA | 3/20/2005
WARREN, OH
COLBERT, BEVERLY | 3/20/2005
IRVING, TX
COLEMAN, ARLIE | 3/20/2005
MEMPHIS, TN
CONKWRIGHT, DEBORAH | 3/20/2005
SALVISA, KY
CONNER, SUSAN | 3/20/2005
DALLAS, NC
COOK, LORIE | 3/20/2005
MIDWEST CITY, OK
COTTON, KIMBERLY | 3/20/2005
WILSON, NC
CROCKETT, CARA | 3/20/2005
PRAIRIE VILLAGE, KS
DAVIS, BETTY | 3/20/2005
SEMMES, AL
DEMESI, MOWOE | 3/20/2005
GRAND PRAIRIE, TX
DENEAU, JENIFER | 3/20/2005
MONTROSE, CO
DESJARDIN, PAUL | 3/20/2005
QUINCY, MA
DICKERSON, JAMES | 3/20/2005
LISLE, IL
DIEL, RANDALL | 3/20/2005
TUCSON, AZ
DIGREGORIO, EDWARD | 3/20/2005
WARWICK, RI
DIWA, JONATHAN | 3/20/2005
UPLAND, CA
DOOLEY, HEIDI | 3/20/2005
PHOENIX, AZ
EVERMAN, SHERRIL | 3/20/2005
INDIANAPOLIS, IN
FARRAR, TERESA | 3/20/2005
SANTA PAULA, CA
FRANK, CHERYL | 3/20/2005
SONORA, CA
GATES, KARLA | 3/20/2005
TULSA, OK
GAUNTT, RICKY | 3/20/2005
FT STOCKTON, TX
GORMUS, JOSEPH | 3/20/2005
RICHMOND, VA
HAAG, JAMES | 3/20/2005
SUFFIELD, CT
HAMILTON, BRIDGETT | 3/20/2005
SEATTLE, WA
HARRIS, BARBARA | 3/20/2005
LELAND, NC
HASTINGS, MARY | 3/20/2005
COLORADO SPRINGS, CO
HEDGIS, NICK | 3/20/2005
MENLO, GA
HERSEY, THEA | 3/20/2005
NORTON, VA
HOYT, NANCY | 3/20/2005
SUN VALLEY, CA
ISAACS, BARBARA | 3/20/2005
MARICOPA, AZ
JARAMILLO, RODNEY | 3/20/2005
SAN LEANDRO, CA
JONES, BRENDA | 3/20/2005
TULSA, OK
JORDAN, JENNIE | 3/20/2005
HUNTSVILLE, AL
JUNE, VIRGINIA | 3/20/2005
SALT LAKE CITY, UT
KAUFFMAN, DINAH | 3/20/2005
FAYETTEVILLE, PA
KERSHAW, SHARON | 3/20/2005
LEXINGTON, KY
KNECHT, LINDA | 3/20/2005
MT POCONO, PA
KORMI, TOURAJ | 3/20/2005
EL SOBRANTE, CA
LAKE, ROBERT | 3/20/2005
MURRAY, UT
LARRIVEE, MICHELLE | 3/20/2005
VERO BEACH, FL
LEBEL, LANA | 3/20/2005
PUEBLO WEST, CO
LESLIE, ROBERT | 3/20/2005
IRVINE, CA
LETTINGTON, ALEXIS | 3/20/2005
PALM SPRINGS, CA
LOPEZ, BRANDICE | 3/20/2005
CARMICHAEL, CA
MANZANO, GREGORIO | 3/20/2005
DALY CITY, CA
MARQUEZ, CARLOS | 3/20/2005
ORANGE, CA
MAYS, KRISTAL | 3/20/2005
BRADENTON, FL
MCCLURE, DEBRA | 3/20/2005
QUINCY, CA
MILLS, STEPHEN | 3/20/2005
TISBURY, MA
MORENO, LINDA | 3/20/2005
GREAT FALLS, MT
NEECE, STEPHEN | 3/20/2005
PLANO, TX
NWOSU, JUDE | 3/20/2005
TEMPE, AZ
O'MALLEY, MAURA | 3/20/2005
WESTFFIELD, MA
PALLADINO, ARTHUR | 3/20/2005
AMHERST, MA
PARKER, RAMONA | 3/20/2005
JONESBORO, AR
PARKER, SCOTT | 3/20/2005
MEAD, OK
PEARSON, REGINA | 3/20/2005
PADUCAH, KY
PERNER, TENA | 3/20/2005
CASTALIAN SPRINGS, TN
PETTIES, TYREE | 3/20/2005
CHICAGO, IL
PISANO, SALLIE | 3/20/2005
LACEY, WA
POOLE, WILLIAM | 3/20/2005
EAGLESVILLE, TN
POULSEN, JERRY W | 3/20/2005
VALLEY CITY, UT
POYATOS, DANILO | 3/20/2005
VICTORVILLE, CA
PRONTO, DAVID | 3/20/2005
HUDSON FALLS, NY
PRUGH, JAMES | 3/20/2005
SCOTTSDALE, AZ
RAIMAN, GARII | 3/20/2005
CONCORD, CA
ROSS, LINDA | 3/20/2005
EL DORADO, KS
SABATINO, DAVID | 3/20/2005
ELIZABETHTON, TN
SARVIS, AMANDA | 3/20/2005
FREMONT, NC
SAVAGE, SANDRA | 3/20/2005
S BOSTON, MA
SAYED, SAQUIB | 3/20/2005
CRANFORD, NJ
SCHAEFFER, BRANDON | 3/20/2005
CHICAGO, IL
SCHWARZ, ANN | 3/20/2005
RANDOLPH, MA
SCOTT, OTIS | 3/20/2005
ABINGTON, PA
SEJALBO, MARYANN | 3/20/2005
HAYWARD, CA
SHELL, JOAN-MARIE | 3/20/2005
PORT HADLOCK, WA
SHERMAN, AHRON | 3/20/2005
EUREKA, CA
SHINDORE, SHREELAL | 3/20/2005
NAPLES, FL
SHORT, LEA ANN | 3/20/2005
NEW ALBANY, IN
SILVA, LINDA | 3/20/2005
IONE, CA
SIMPSON, LISA | 3/20/2005
LOUISVILLE, KY
SMITH, LESLIE | 3/20/2005
TEMPE, AZ
SMITH, SUSAN | 3/20/2005
ROCKFORD, IL
SMITH, TRICIA | 3/20/2005
OSSIPEE, NH
SOUSA, BONNIE | 3/20/2005
STOCKTON, CA
STAPLETON, KELLY | 3/20/2005
CRESTWOOD, IL
STELLHORN, JEANNE | 3/20/2005
CAHOKIA, IL
STEVENS, ANNA | 3/20/2005
ROOSEVELT, UT
STOLLOF, KELLY | 3/20/2005
INDIO, CA
STROMBERG, WILLIAM | 3/20/2005
DE SOTO, IL
SUPPLEE, PENNY | 3/20/2005
WEST CHESTER, PA
SUSS, BEVERLY | 3/20/2005
GRAFTON, MA
SUTTON, CURTIS | 3/20/2005
LAYTON, UT
TAYLOR, REGINA | 3/20/2005
CHICAGO, IL
TEE, MIKE | 3/20/2005
AURORA, CO
VAHLE, TREVOR | 3/20/2005
FRUITA, CO
VALENCIA, MARIA | 3/20/2005
DENVER, CO
VALENTINE, CHRISTINE | 3/20/2005
RICHMOND, VA
VANDENBOS, GREGORY | 3/20/2005
RENO, NV
VAWTER, KAREN | 3/20/2005
COEUR D'ALENE, ID
WALLACE, PATRICK | 3/20/2005
ABINGDON, VA
WIJNHAMER, JAN | 3/20/2005
BELLINGHAM, WA
WILLIAMS, MICHELLE | 3/20/2005
PAINTSVILLE, KY
WILSON, DONNA | 3/20/2005
JASPER, TX
WRIGHT, STEVIE | 3/20/2005
SEYMOUR, TN
YOUNG, SANDRA | 3/20/2005
CARTERVILLE, IL
ZEGARRA, GLORIA | 3/20/2005
GLENDALE, CA
FRAUD/KICKBACKS/PROHIBITED ACTS/SETTLEMENT AGREEMENTS
MED-CON, INC | 12/29/2004
PAINTSVILLE, KY
PRICE, HARRY | 9/20/2004
MARTINSBURG, VA
SHAW, JOHN | 12/29/2004
PAINTSVILLE, KY
OWNED/CONTROLLED BY CONVICTED ENTITIES
AMERICAN FAMILY PHARMACEUTICALS, INC | 3/20/2005
NAPLES, FL
CONVENIENT MEDICAL SERVICES, INC | 3/20/2005
NAPLES, FL
LADD MANAGEMENT CORPORATION | 3/20/2005
LEAWOOD, KS
MARIN CHIROPRACTIC, INC | 3/20/2005
VAN NUYS, CA
MICHAEL E SMITH, D P M, P A | 3/20/2005
ORLANDO, FL
MOBILE DENTISTRY, LLC | 3/20/2005
NEW CASTLE, PA
PAIN RELIEF MEDICAL CENTER | 3/20/2005
VAN NUYS, CA
S FT MYERS MEDICAL CENTER, INC | 3/20/2005
FT MYERS, FL
SHREELAL M SHINDORE, MD, PA | 3/20/2005
NAPLES, FL
SYNERGISTICS MEDICAL CARE PA | 3/20/2005
LEAWOOD, KS
DEFAULT ON HEAL LOAN
BAKER, WALTER | 3/20/2005
VALLEJO, CA
BARNETT, RUTH | 2/1/2005
DETROIT, MI
BELL, HERMAN | 3/20/2005
LOS ANGELES, CA
CHIANG, PHILIP | 3/20/2005
MOUNTAIN VIEW, CA
FERNANDO, ANTONIO | 3/20/2005
PHILADELPHIA, PA
LINDLY, MAURICE | 3/20/2005
SALINAS, CA
MULLINAX, JEFFREY | 3/20/2005
WINDSOR, CA
NEWBY, EDGAR | 3/20/2005
LAWTON, OK
PASCALE, MICHELE | 3/20/2005
AUGUSTA, GA
RAPPA, RICHARD | 3/20/2005
N HAVEN, CT
CMP
O'CONNOR, THOMAS | 2/28/2005
MILWAUKEE, WI

Dated: March 2, 2005.
Katherine B. Petrowski,
Director, Exclusions Staff, Office of Inspector General.

[FR Doc. 05-4680 Filed 3-9-05; 8:45 am]

BILLING CODE 4150-04-P